DEPARTMENT OF STATE

[Public Notice: 10523]

Determination Under Section 7012 of the Department of State, Foreign Operations, and Related Programs Appropriations Act, 2018 Relating to Assistance to Somalia

Pursuant to section 7012 of the Department of State, Foreign Operations, and Related Programs Appropriations Act, 2018 (Div. K, Pub. L. 115-141) (the Act); Executive Order 12163, as amended by E.O. 13346; and Delegation of Authority No. 245-2, I hereby determine that assistance to Somalia is in the national interest of the United States and thereby waive, with respect to Somalia, the application of section 7012 of the Act.

This Determination shall be published in the Federal Register and, along with the accompanying Memorandum of Justification, shall be reported to Congress.

Dated: July 31, 2018.
John J. Sullivan,
Deputy Secretary of State.

[FR Doc. 2018-18754 Filed 8-28-18; 8:45 am]

BILLING CODE 4710-26-P